DEPARTMENT OF AGRICULTURE

Forest Service

White Pass Ski Area Expansion, Okanogan-Wenatchee and Gifford Pinchot National Forests, Yakima and Lewis Counties

AGENCY: Forest Service, USDA.

ACTION: Revised notice of intent to prepare an environmental impact statement.

SUMMARY: On February 14, 2002, the Forest Service, USDA, published a Notice of Intent (NOI) in the Federal Register (67 FR 6906). The notice stated that the proposed action was to modify the present special use permit of the White Pass Company to authorize expansion into approximately 300 acres in Pigtail Basin for the purpose of providing additional ski opportunities. This revised NOI changes the size of the proposed expansion to approximately 770 acres and includes the larger Hogback Basin area. The revised date of filing the draft EIS is June 2003 and the revised filing of the final EIS is planned in December 2003.

DATES: Comments concerning the scope of the revised analysis should be received in writing by November 25, 2002.

ADDRESSES: Submit written comments and suggestions concerning the project to Randall Shepard, District Ranger, Naches Ranger District, 10061 Highway 12, Naches, WA 98937; phone 509-653-2205, Attn: White Pass Ski Area Expansion.

FOR FURTHER INFORMATION CONTACT: Questions and comments about this EIS should be directed to Susan Ranger, Project Planner, at Naches Ranger District, 10061 Highway 12, Naches, WA 98937; Phone 509-653-2205.

Dated: October 8, 2002.
Alan Quan,
Acting Forest Supervisor.

[FR Doc. 02-26663 Filed 10-18-02; 8:45 am]

BILLING CODE 3410-11-M